DEPARTMENT OF HOMELAND SECURITY

Bureau of Customs and Border Protection

DEPARTMENT OF THE TREASURY

19 CFR Parts 113 and 191

[USCBP-2009-0021]

RIN 1505-AC18

Drawback of Internal Revenue Excise Tax

AGENCY: Customs and Border Protection, Department of Homeland Security; Department of the Treasury.

ACTION: Withdrawal of notice of proposed rulemaking.

SUMMARY: This document withdraws a notice of proposed rulemaking, published in the Federal Register on October 15, 2009, that proposed amendments to title 19 of the Code of Federal Regulations to: preclude the filing of a substitution drawback claim for internal revenue excise tax paid on imported merchandise in situations where no excise tax was paid upon the substituted merchandise or where the substituted merchandise is the subject of a different claim for refund or drawback of tax under any provision of the Internal Revenue Code; and add a basic importation and entry bond condition to foster compliance with the amended drawback provision. The notice is being withdrawn to permit further consideration of the relevant issues involved in the proposed rulemaking.

DATES: Effective Date: The effective date of this withdrawal is March 2, 2010.

FOR FURTHER INFORMATION CONTACT: William Rosoff, Regulations and Rulings, Office of International Trade, (202) 325-0047.

SUPPLEMENTARY INFORMATION:

Background

On October 15, 2009, Customs and Border Protection (CBP) published a notice of proposed rulemaking in the Federal Register (74 FR 52928) proposing changes to parts 113 and 191 within title 19 of the Code of Federal Regulations. The proposed amendments would: (1) Preclude the filing of a substitution drawback claim for internal revenue excise tax paid on imported merchandise in situations where no excise tax was paid upon the substituted merchandise or where the substituted merchandise is the subject of a different claim for refund or drawback of tax under any provision of the Internal Revenue Code; and (2) add a basic importation and entry bond condition to the CBP regulations to foster compliance with the amended drawback provision. The comment period was extended twice to allow additional time for interested parties to submit comments on the proposed rulemaking. The comment period ended on January 12, 2010.

Withdrawal of Notice of Proposed Rulemaking

CBP is withdrawing the notice of proposed rulemaking published in the Federal Register (74 FR 52928) on October 15, 2009, so that relevant issues involved in the proposed rulemaking may be further considered.

David V. Aguilar,
Acting Deputy Commissioner, U.S. Customs and Border Protection.
Approved: February 25, 2010.
Michael Mundaca,
Acting Assistant Secretary of the Treasury.

[FR Doc. 2010-4379 Filed 3-1-10; 8:45 am]

BILLING CODE 9111-14-P